DEPARTMENT OF TRANSPORTATION

Federal Aviation Administration

14 CFR Part 39

[Docket No. FAA-2021-0779; Project Identifier MCAI-2020-01505-R; Amendment 39-21817; AD 2021-23-18]

RIN 2120-AA64

Airworthiness Directives; Airbus Helicopters Deutschland GmbH Helicopters

AGENCY: Federal Aviation Administration (FAA), DOT.

ACTION: Final rule.

SUMMARY: The FAA is adopting a new airworthiness directive (AD) for certain Airbus Helicopters Deutschland GmbH Model MBB-BK 117 D-2 helicopters. This AD was prompted by a report of chafing marks on a wiring harness near the locking washer of the lateral control rod. This AD requires an inspection of the wiring harness and the routing of the wiring harness and corrective actions if necessary, as specified in a European Union Aviation Safety Agency (EASA) AD, which is incorporated by reference. The FAA is issuing this AD to address the unsafe condition on these products.

DATES: This AD is effective January 11, 2022.

The Director of the Federal Register approved the incorporation by reference of a certain publication listed in this AD as of January 11, 2022.

ADDRESSES: For EASA material incorporated by reference (IBR) in this AD, contact EASA, Konrad-Adenauer-Ufer 3, 50668 Cologne, Germany; phone: +49 221 8999 000; email: ADs@easa.europa.eu; internet: www.easa.europa.eu. You may find the EASA material on the EASA website at https://ad.easa.europa.eu. You may view this material at the FAA, Office of the Regional Counsel, Southwest Region, 10101 Hillwood Pkwy., Room 6N-321, Fort Worth, TX 76177. For information on the availability of this material at the FAA, call (817) 222-5110. It is incorporated by reference is also available in the AD docket at https://www.regulations.gov by searching for and locating Docket No. FAA-2021-0779.

Examining the AD Docket

You may examine the AD docket at https://www.regulations.gov by searching for and locating Docket No. FAA-2021-0779; or in person at Docket Operations between 9 a.m. and 5 p.m., Monday through Friday, except Federal holidays. The AD docket contains this final rule, the European Union Aviation Safety Agency (EASA) AD, any comments received, and other information. The address for Docket Operations is U.S. Department of Transportation, Docket Operations, M-30, West Building Ground Floor, Room W12-140, 1200 New Jersey Avenue SE, Washington, DC 20590.

FOR FURTHER INFORMATION CONTACT: Jacob Fitch, Aerospace Engineer, COS Program Management Section, Operational Safety Branch, Compliance & Airworthiness Division, FAA, 10101 Hillwood Pkwy., Fort Worth, TX 76177; phone: (817) 222-4130; email: jacob.fitch@faa.gov.

SUPPLEMENTARY INFORMATION:

Background

EASA, which is the Technical Agent for the Member States of the European Union, has issued EASA AD 2020-0246, dated November 10, 2020 (EASA AD 2020-0246), to correct an unsafe condition for certain Airbus Helicopters Deutschland GmbH, formerly Eurocopter Deutschland GmbH Model MBB-BK 117 D-2 helicopters.

The FAA issued a notice of proposed rulemaking (NPRM) to amend 14 CFR part 39 by adding an AD that would apply to certain Airbus Helicopters Deutschland GmbH Model MBB-BK 117 D-2 helicopters. The NPRM published in the Federal Register on September 14, 2021 (86 FR 51042). The NPRM was prompted by a report of chafing marks on a wiring harness near the locking washer of the lateral control rod. The NPRM proposed to require an inspection of the wiring harness and the routing of the wiring harness and corrective actions if necessary, as specified in EASA AD 2020-0246.

The FAA is issuing this AD to address chafing marks on a wiring harness near the locking washer of the lateral control rod. The unsafe condition, if not addressed, could result in in-flight loss of the hoist load and possible personal injury, or could generate a burning smell and possible need for the flight crew to implement the applicable emergency procedure. See EASA AD 2020-0246 for additional background information.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters. Except for minor editorial changes, this AD is adopted as proposed in the NPRM.

Related Service Information Under 1 CFR Part 51

EASA AD 2020-0246 requires an inspection of the wiring harness and the routing of the wiring harness for discrepancies (includes damaged wire harnesses and insufficient clearances) and corrective actions (includes repair of wire harnesses and re-routing the wire harness) if necessary, and an update of the Aircraft Maintenance Programme (AMP) to incorporate certain tasks. This material is reasonably available because the interested parties have access to it through their normal course of business or by the means identified in the ADDRESSES section.

Differences Between This AD and the EASA AD

EASA AD 2020-0246 requires revising the “Aircraft Maintenance Programme (AMP),” whereas this proposed AD would not because not all U.S. operators are required to have a maintenance program.

Costs of Compliance

The FAA estimates that this AD affects 31 helicopters of U.S. Registry. Labor rates are estimated at $85 per work-hour. Based on these numbers, the FAA estimates the following costs to comply with this AD.

Estimated Costs
Action | Labor cost | Parts cost | Cost per product | Cost on U.S. operators
Inspection | 1 work-hour × $85 per hour = $85 | $0 | $85 | $2,635

The FAA estimates the following costs to do any necessary repairs and re-routing that would be required based on the results of the inspection. The agency has no way of determining the number of aircraft that might need these repairs:

On-Condition Costs
Action | Labor cost | Parts cost | Cost per product
Repairs and re-routing | Up to 1 work-hour × $85 per hour = $85 | * $0 | $85
* The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-23-18 Airbus Helicopters Deutschland GmbH: Amendment 39-21817; Docket No. FAA-2021-0779; Project Identifier MCAI-2020-01505-R.

(a) Effective Date

This airworthiness directive (AD) is effective January 11, 2022.

(b) Affected ADs

None.

(c) Applicability

This AD applies to Airbus Helicopters Deutschland GmbH Model MBB-BK 117 D-2 helicopters, certificated in any category, as identified in European Union Aviation Safety Agency (EASA) AD 2020-0246, dated November 10, 2020 (EASA AD 2020-0246).

(d) Subject

Joint Aircraft Service Component (JASC) Code: 2597, Equip/Furnishing System Wiring.

(e) Unsafe Condition

This AD was prompted by a report of chafing marks on a wiring harness near the locking washer of the lateral control rod. The FAA is issuing this AD to address chafing marks on a wiring harness near the locking washer of the lateral control rod. The unsafe condition, if not addressed, could result in in-flight loss of the hoist load and possible personal injury, or could generate a burning smell and possible need for the flight crew to implement the applicable emergency procedure.

(f) Compliance

Comply with this AD within the compliance times specified, unless already done.

(g) Requirements

Except as specified in paragraph (h) of this AD: Comply with all required actions and compliance times specified in, and in accordance with, EASA AD 2020-0246.

(h) Exceptions to EASA AD 2020-0246

(1) Where EASA AD 2020-0246 requires compliance in terms of flight hours, this AD requires using hours time-in-service.

(2) Where EASA AD 2020-0246 refers to its effective date, this AD requires using the effective date of this AD.

(3) Where Paragraph (3) of EASA AD 2020-0246 specifies to update the Aircraft Maintenance Programme (AMP) with certain tasks included in the service information referenced by EASA AD 2020-0246, this AD does not include that requirement.

(4) This AD does not require the “Remarks” section of EASA AD 2020-0246.

(i) Special Flight Permit

Special flight permits may be issued in accordance with 14 CFR 21.197 and 21.199 to operate the helicopter to a location where the actions of this AD can be performed, provided that no debris from chafing is visible that would allow jamming or fouling of the flight controls, the chafing does not interfere with the flight controls by jamming or fouling, and the systems impacted by the wiring harness are rendered inoperable by collaring the circuit breaker.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Jacob Fitch, Aerospace Engineer, COS Program Management Section, Operational Safety Branch, Compliance & Airworthiness Division, FAA, 10101 Hillwood Pkwy., Fort Worth, TX 76177; phone: (817) 222-4130; email: jacob.fitch@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2020-0246, dated November 10, 2020.

(ii) [Reserved].

(3) For EASA AD 2020-0246, contact EASA, Konrad-Adenauer-Ufer 3, 50668 Cologne, Germany; phone: +49 221 8999 000; email: ADs@easa.europa.eu; internet: www.easa.europa.eu. You may find the EASA material on the EASA website at https://ad.easa.europa.eu.

(4) You may view this service information at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2021-0779.

(5) You may view this material that is incorporated by reference at the National Archives and Records Administration (NARA). For information on the availability of this material at NARA, email fr.inspection@nara.gov, or go to: https://www.archives.gov/federal-register/cfr/ibr-locations.html.

Issued on November 4, 2021.
Lance T. Gant,
Director, Compliance & Airworthiness Division, Aircraft Certification Service.

[FR Doc. 2021-26497 Filed 12-6-21; 8:45 am]

BILLING CODE 4910-13-P